DEPARTMENT OF THE INTERIOR

Bureau of Land Management

[18X.LLAK930000 L13100000.PP0000]

Notice of Availability of the Draft Supplemental Environmental Impact Statement for the Alpine Satellite Development Plan for the Proposed Greater Mooses Tooth 2 Development Project, National Petroleum Reserve in Alaska; Notice of Public Meetings and Subsistence Hearings

AGENCY: Bureau of Land Management, Interior.

ACTION: Notice.

SUMMARY: The Bureau of Land Management (BLM), Arctic District Office, Fairbanks, Alaska, is issuing for public comment the Draft Supplemental Environmental Impact Statement (EIS) for the Alpine Satellite Development Plan for the Proposed Greater Mooses Tooth 2 (GMT2) Development Project, National Petroleum Reserve in Alaska (NPR-A). BLM Alaska is also announcing pending public meetings and subsistence-related hearings to receive comments on the GMT2 Draft Supplemental EIS and the project's potential to impact subsistence resources and activities. The EIS will supplement the September 2004 Alpine Satellite Development Plan Final EIS that originally analyzed the GMT2 Project, regarding establishing satellite oil production pads and associated infrastructure within the Alpine field.

DATES: To ensure that the BLM will consider your comments on the GMT2 Draft Supplemental EIS, BLM Alaska must receive your written comments no later than 45 days after the Environmental Protection Agency publishes its notice of availability of the GMT2 Draft Supplemental EIS in the Federal Register. BLM Alaska will announce the dates, times, and locations of public meetings on its website, through public notices, media news releases, and/or mailings.

ADDRESSES: You may provide comments by mail, fax, email, or in person. Mail comments to: GMT2 SEIS Comments, Attn: Stephanie Rice, 222 West 7th Avenue #13, Anchorage, Alaska 99513; fax comments to 907-271-3933; email comments to blm_ak_gmt2_comments@blm.gov; or hand-deliver comments during normal business hours (9 a.m. to 4 p.m.) to the BLM Public Information Center, 222 West 7th Avenue, Anchorage, Alaska.

You may review the GMT2 Draft Supplemental EIS online at BLM Alaska's website at http://www.blm.gov/alaska. You may also review copies of the GMT2 Draft Supplemental EIS at both BLM Alaska Public Information Centers at the Federal Building at 222 West 7th Avenue, Anchorage, and at the Arctic District Office, 222 University Avenue, Fairbanks. You may also request a CD or paper copy of the GMT2 Draft Supplemental EIS by contacting Stephanie Rice, BLM project lead, at 907-271-3202.

FOR FURTHER INFORMATION CONTACT: Stephanie Rice, BLM Alaska State Office, 907-271-3202. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The GMT2 Supplemental EIS analyzes an application from ConocoPhillips, Alaska, Inc. (ConocoPhillips). The application is for a permit to drill and related authorizations to construct, operate, and maintain a drill site, access road, pipelines, and ancillary facilities on federally managed land to support development of petroleum resources at the GMT2 drill site. BLM Alaska manages the surface and subsurface at the drill site and at the proposed infield road and pipeline route. ConocoPhillips may also develop subsurface resources owned by the Arctic Slope Regional Corporation, and may occupy surface lands owned by the Kuukpik Corporation.

The proposed GMT2 site is approximately 25 miles southwest of the ConocoPhillips-operated Alpine Central Processing Facility (CD1) and will be operated and maintained by staff at the Alpine Central Processing Facility.

The GMT2 Project was originally analyzed as the Colville Delta 7 (CD7) drill pad in the BLM's September 2004 Alpine Satellite Development Plan Final EIS. The purpose of the Supplemental EIS is to evaluate any relevant new circumstances and information that have arisen since the Alpine Satellite Development Plan Final EIS was completed, to update the alternatives in the 2004 EIS, and to address any changes to ConocoPhillips' proposed development plan for GMT2. The GMT2 Draft Supplemental EIS analyzes four alternatives, including two alternatives with an access road, an alternative without an access road, and a no-action alternative.

The key issues in the GMT2 Draft Supplemental EIS are the protection of surface resources; the minimization of social impacts; and the identification of appropriate mitigation measures for the construction, operation, and maintenance of a drill site and access road, pipelines, and ancillary facilities to support development of petroleum resources at the proposed GMT2 site. Section 810 of the Alaska National Interest Lands Conservation Act (ANILCA), 16 U.S.C. 3120, requires that the BLM evaluate effects on subsistence activities for the alternatives presented in this GMT2 Draft Supplemental EIS and to hold public hearings if the BLM finds that any of the alternatives or the cumulative effects of past, present, and reasonably foreseeable future development may significantly restrict subsistence activities.

BLM Alaska will hold public meetings on the GMT2 Draft Supplemental EIS in these Alaska communities: Anchorage, Anaktuvuk Pass, Atqasuk, Utqiaġvik, Fairbanks, and Nuiqsut. In addition, the public meetings at Anaktuvuk Pass, Atqasuk, Utqiaġvik, and Nuiqsut will incorporate subsistence hearings to take comments on subsistence impacts pursuant to the ANILCA.

Before including your address, phone number, email address, or other personally identifying information in your comment, you should be aware that your entire comment—including your personally identifying information—may be made publicly available at any time. While you can ask the BLM in your comment to withhold your personally identifying information from public review, we cannot guarantee that we will be able to do so.

Authority: 16 U.S.C. 3120(a); 40 CFR 1506.6(b).

Karen E. Mouritsen,
Acting State Director, Alaska.

[FR Doc. 2018-06380 Filed 3-28-18; 8:45 am]

BILLING CODE 4310-JA-P